DEPARTMENT OF TRANSPORTATION

Federal Aviation Administration

Agency Information Collection Activities: Requests for Comments; Clearance of an Emergency Approval of Information Collection: Runway to Recovery Recommendations To Help Airports and Airlines Mitigate the Risks of COVID-19 Transmission

AGENCY: Federal Aviation Administration (FAA), DOT.

ACTION: Notice of request for emergency OMB approval and public comment.

SUMMARY: In accordance with the Paperwork Reduction Act (PRA) of 1995, FAA invites public comments about our intention to request the Office of Management and Budget (OMB) emergency approval for a new information collection. The collection involves determining the extent to which U.S. airlines and certificated U.S. airports have been able to implement practices recommended to reduce and mitigate the risks of COVID-19 transmission during air travel. FAA is collecting this information on behalf of multiple agencies that will use the information collected to gauge implementation, identify the impact of recommended practices on aviation safety and operations, understand potential barriers to implementation, and identify additional mitigation practices. If granted, the emergency approval is only valid for 180 days. FAA plans to follow this emergency request with a submission for a 3-year approval through OMB's normal PRA clearance process.

DATES: Written comments should be submitted by November 18, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Tip Stinnette by email at tip.stinnette@faa.gov or phone at 202-768-5642.

SUPPLEMENTARY INFORMATION: Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information.

OMB Control Number: 2120-XXXX.

Title: Runway to Recovery Recommendations to Help Airports and Airlines Mitigate the Risks of COVID-19 Transmission.

Form Numbers: None.

Type of Review: Emergency approval of an information collection.

Background: The FAA is developing this collection to gather information on the United States' implementation of measures by airports and airlines to mitigate COVID-19-related risks and to restore aviation, in accordance with recommendations in the joint federal agency guidance Runway to Recovery: The United States Framework for Airlines and Airports to Mitigate the Public Health Risks of Coronavirus.¹ As described in Runway to Recovery, the adoption of the mitigation measures by airports and airlines is vital to reducing the spread of the virus in the air transportation system and restoring the confidence of passengers and the aviation workforce in air travel, both of which are critical to the recovery of the aviation industry. The information collection will help to identify the specific mitigation measures used by airports and airlines to stop the spread of COVID-19 and to assess the impact these measures are having on aviation safety and operations, reduction of public health risk, and security and resiliency of the air transport system.

¹ U.S. DOT, HHS, DHS, Runway to Recovery: The United States Framework for Airlines and Airports to Mitigate the Public Health Risks of Coronavirus (July 2020), available at https://www.transportation.gov/briefing-room/runway-recovery.

FAA is conducting this information collection on behalf of agencies that issued Runway to Recovery: Department of Transportation, Department of Homeland Security, and Department of Health and Human Services.

As provided under 5 CFR 1320.13, DOT is requesting emergency processing for this new collection of information as specified in the PRA and its implementing regulations. DOT cannot reasonably comply with normal clearance procedures because an appropriate response to the COVID-19 public health emergency requires immediate action to ensure the safety and welfare of the traveling public. Upon OMB approval of its emergency clearance request, FAA will follow the normal clearance procedures for this information collection.

Use: FAA will use this information to update the International Civil Aviation Organization (ICAO) on the progress of U.S. airports and airlines implementing safety, security, and public health measures to mitigate risks associated with COVID-19. FAA will share the collected information with the federal agencies that issued Runway to Recovery (Departments of Transportation, Homeland Security and Health and Human Services). FAA will also share the collected information with airports and airlines.

The collected data will be used to:

• Assess the extent to which airports and airlines have implemented the recommended mitigation practices in the Runway to Recovery document;

• Help identify the impact of these practices on aviation safety and operations, reduction of public health risk, and the security and resiliency of the air transportation system;

• Better understand potential barriers airports and airlines are facing when they implement these recommendations; and

• Identify success stories and additional practices that airports and airlines are using to help prevent the spread of the virus, inspire confidence among the traveling public, and further ensure the safety of passengers and the aviation workforce.

Based on collected data, FAA, DOT, DHS, or HHS may recommend changes and/or additions to the mitigation measures identified in the Runway to Recovery document.

Respondents: Approximately 520 airport owners/managers and 60 airline representatives.

Frequency: Information will be collected approximately every 2 months over a 6-month period.

Estimated Average Burden per Response: 20-25 minutes.

Estimated Total Annual Burden: 60-75 minutes per respondent.

Issued in Washington, DC.
Roberto Gonzalez,
Deputy Director, Foundational Business, Flight Standards, Office of Aviation Safety.

[FR Doc. 2020-23069 Filed 10-16-20; 8:45 am]

BILLING CODE 4910-13-P